DEPARTMENT OF COMMERCE

National Oceanic and Atmospheric Administration

RIN 0648-XD61

Marine Mammals; File No. 10080

AGENCY: National Marine Fisheries Service (NMFS), National Oceanic and Atmospheric Administration (NOAA), Commerce.

ACTION: Notice; issuance of permit amendment.

SUMMARY: Notice is hereby given that Dr. Kathryn A. Ono, Department of Biological Sciences, University of New England, Biddeford, ME, has been issued an amendment to scientific research Permit No. 10080.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Tammy Adams or Jaclyn Daly, (301)713-2289.

SUPPLEMENTARY INFORMATION: On February 11, 2008, notice was published in the Federal Register (73 FR 7715) that an amendment to Permit No. 10080, issued December 18, 2007 (72 FR 72996), had been requested by the above-named individual. The requested amendment has been granted under the authority of the Marine Mammal Protection Act of 1972, as amended (16 U.S.C. 1361 et seq.) and the regulations governing the taking and importing of marine mammals (50 CFR part 216).

The amendment allows researchers to harass an additional 1000 gray seals (Halichoerus grypus) annually incidental to boat approaches to target seals on ledges and other haul outs. No other aspect of the permit or authorized research has been changed. The purpose of increasing the numbers of gray seals that may be harassed during boat approaches is to account for the increasing size of the gray seal population in the area.

In compliance with the National Environmental Policy Act of 1969 (42 U.S.C. 4321 et seq.), a final determination has been made that the activity proposed is categorically excluded from the requirement to prepare an environmental assessment or environmental impact statement.

Dated: April 22, 2008.
P. Michael Payne,
Chief, Permits, Conservation and Education Division, Office of Protected Resources, National Marine Fisheries Service.

[FR Doc. E8-9256 Filed 4-25-08; 8:45 am]

BILLING CODE 3510-22-S